DEPARTMENT OF STATE

[Public Notice 7340]

Comprehensive Environmental Evaluations for Antarctic Activities

SUMMARY: The Department of State gives notice of the availability of two draft Comprehensive Environmental Evaluations (CEEs) for activities proposed to be undertaken in Antarctica. Interested members of the public are invited to submit comments relative to these CEEs.

DATES: Comments must be submitted on or before May 17, 2011.

ADDRESSES: Send comments to OES/OPA, Room 2665; Department of State; Washington, DC 20520, or to FosterHD@state.gov.

FOR FURTHER INFORMATION CONTACT: Harold D. Foster, Office of Ocean and Polar Affairs, (202) 647-0237.

SUPPLEMENTARY INFORMATION: Article 3 of Annex I to the Protocol on Environmental Protection to the Antarctic Treaty requires the preparation of a CEE for any proposed Antarctic activity likely to have more than a minor or transitory impact. Draft CEEs are to be made publicly available with a 90-day period for receipt of comments. This notice is published pursuant to 16 U.S.C. 2403a(h).

The Department of State has received two draft CEEs:

1. The United Kingdom has submitted a draft CEE entitled “Proposed Exploration of Subglacial Lake Ellsworth, Antarctica.” The document is available on the Internet at the following Web site: http://www.antarctica.ac.uk//about_antarctica/geography/environment/eia/subglacial_lake_ellsworth_cee.pdf.

2. The Republic of Korea has submitted a draft CEE entitled “Draft Comprehensive Environmental Evaluation: Construction and Operation of Jang Bogo Antarctic Research Station, Terra Nova Bay, Antarctica.” The document is available on the Internet at the following Web site: http://www.kopri.re.kr/english/eng_news/userBbs/bbsView.do?bbs_cd_n=36&bbs_seq_n=10.

The Department of State invites interested members of the public to provide written comments on these draft CEEs.

Date: February 16, 2011.
William R. Meara,
Deputy Director, Office of Ocean and Polar Affairs, Department of State.

[FR Doc. 2011-3876 Filed 2-18-11; 8:45 am]

BILLING CODE 4710-09-P